DEPARTMENT OF HOUSING AND URBAN DEVELOPMENT

[Docket No. FR-7066-N-11]

60-Day Notice of Proposed Information Collection: Floodplain Management and Protection of Wetlands; OMB Control No.: 2506-0151

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 14, 2023.

ADDRESSES: Interested persons are invited to submit comments regarding this proposal. Written comments and recommendations for the proposed information collection can be sent within 60 days of publication of this notice to www.reginfo.gov/public/do/PRAMain. Find this particular information collection by selecting “Currently under 60-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Glenn Schroeder, Program Analyst, Office of Environment and Energy, Department of Housing and Urban Development, 451 7th Street SW, Washington, DC 20410; email Glenn Schroeder at glenn.a.schroeder@hud.gov or telephone 202-402-5849. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in section A.

A. Overview of Information Collection

Title of Information Collection: 24 CFR 55, Floodplain Management and Protection of Wetlands.

OMB Approval Number: 2506-0151.

Type of Request: Extension of currently approved collection:

Description of the need for the information and proposed use: 24 CFR 55 implements decision-making procedures prescribed by Executive Order 11988 with which applicants must comply before HUD financial assistance can be approved for projects that are located within floodplains. Records of compliance must be kept.

Respondents: 575.

Information Collection/Form Number: N/A.

Estimated Number of Respondents: 575.

Frequency of Response: 1.

Responses per Annum: 575.

Average Burden Hours per Response: Varies.

Total Estimated Burdens: 2,500 hours.

Information collection/form No. | Estimated number of respondents | Frequency of response | Responses per annum | Average burden hour per response | Annual burden hours | Hourly cost per response | Annual cost
ICR#: 2506-0151, 24 CFR 55.20 | 275 | 1 | 275 | 8 | 2,200 | 44.00 | 96,800
ICR#: 2506-0151, 24 CFR 55.21 | 300 | 1 | 300 | 1 | 300 | 44.00 | 13,200
Total | 575 | 1 | 575 |  | 2,500 |  | 110,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Marion M. McFadden,
Principal Deputy Assistant Secretary for Community Planning and Development.

[FR Doc. 2023-19970 Filed 9-14-23; 8:45 am]

BILLING CODE 4210-67-P